FEDERAL COMMUNICATIONS COMMISSION

[OMB 3060-1228; FR ID 265194]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before January 3, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page https://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1228.

Title: Connect America Fund—High Cost Portal Filing.

Form Number: N/A.

Type of Review: Revision of a currently approved collection.

Respondents: Business or other for-profit, not-for-profit institutions.

Number of Respondents and Responses: 2,015 unique respondents; 4,590 responses.

Estimated Time per Response: 8 hours-60 hours.

Frequency of Response: On occasion, quarterly reporting requirements, annual reporting requirements, and recordkeeping requirement.

Obligation to Respond: Required to obtain or retain benefits. Statutory authority for this information collection is contained in 47 U.S.C. 151-154, 155, 201-206, 214, 218-220, 251, 252, 254, 256, 303(r), 332, 403, 405, 410, and 1302.

Total Annual Burden: 86,263 hours.

Total Annual Cost: No Cost.

Needs and Uses: Through several orders, the Federal Communications Commission (the Commission) has recently changed or modified reporting obligations for high-cost support. Pursuant to the following orders, this collection includes location reporting and related certification requirements of high-cost support recipients: Connect America Fund et al., Report and Order, Order and Order on Reconsideration, and Further Notice of Proposed Rulemaking, 31 FCC Rcd 3087 (2016) (2016 Rate-of-Return Order); Connect America Fund et al., Report and Order and Further Notice of Proposed Rulemaking, 31 FCC Rcd 5949 (2016) (Phase II Auction Order); Connect America Fund et al., Order, 31 FCC Rcd 12086 (2016) (ACS Phase II Order); Connect America Fund et al., Report and Order and Notice of Proposed Rulemaking, 29 FCC Rcd 876 (2014) (Rural Broadband Experiments Order); Connect America Fund et al., Report and Order, 29 FCC Rcd 15644 (2014) (Price Cap Order); Technology Transitions et al., Order et al., 29 FCC Rcd 1433 (2014) (Tech Transitions Order); Connect America Fund et al., Report and Order and Further Notice of Proposed Rulemaking, 31 FCC Rcd 10139 (2016) (Alaska Plan Order); Connect America Fund et al., Order, 32 FCC Rcd 968 (2017) (New York Auction Order); Connect America Fund et al., Report and Order, Further Notice of Proposed Rulemaking, and Order on Reconsideration, 33 FCC Rcd 11-893 (2018) (2018 Rate-of-Return Order); The Uniendo a Puerto Rico and the Connect USVI Fund et al., Report and Order and Order on Reconsideration, 34 FCC Rcd 9109 (2019) (PR-USVI Stage 2 Order); Rural Digital Opportunity Fund et al., Report and Order, 35 FCC Rcd 686 (2020) (2020 Rural Digital Opportunity Fund Order); Enhanced A-CAM Report and Order, FCC 23-60; Connect America Fund et al., WC Docket No. 10-90 et al. WT Docket No. 10-208, Notice of Proposed Rulemaking and Report and Order, FCC 23-87 (Oct. 20, 2023) (Administrative Order).

This information collection addresses the requirement that certain carriers with high-cost reporting obligations file information about the locations to which they have deployed broadband service meeting applicable public interest requirements (location information). The HUBB, a web-based portal, is used to accept this information. The Commission and the Universal Service Administrative Company (USAC) will use this information to monitor the deployment progress of reporting carriers, to verify the reporting carriers' claims of service at the reported locations, and to conform broadband deployment data between the HUBB and BDC. Such activities help the Commission ensure that support is being used as intended. In addition, because data filed in the HUBB is publicly accessible, the reporting helps ensure public accountability and transparency.

This information collection further addresses the Commission's efforts to develop and establish a uniform national dataset of locations where broadband could be deployed and upon which new coverage data could be overlaid using a single methodology to harmonize fixed broadband reporting nationwide with granular location data as part of the BDC and required by the Broadband Deployment Accuracy and Technology Availability Act, Public Law 116-130, 134 Stat. 228 (2020) (Broadband DATA Act). In furtherance of its obligations, the Commission established the Broadband Serviceable Location Fabric (Fabric), which consists of a single, nationwide fabric that will contain geocoded information for all locations where a broadband connection can be installed in the United States and territories (Broadband Serviceable Location or BSL). Each BSL contained in the Fabric is provided a unique identification number. The HUBB portal will be updated in order to have support recipients include the unique Fabric identification number when reporting or revising high-cost broadband deployment location data. Including the BSL Fabric Identification Number in HUBB reporting will improve the accuracy and reliability of the broadband data used to monitor progress and ensure accountability with Commission programs. All BSL Fabric Identification Numbers are associated with the latitude, longitude, address, and number of units at the location. Accordingly, reporting the BSL Fabric Identification Number associated with a location encompasses the latitude, longitude, address, and number of units at the location.

This information collection addresses the location reporting and related certification requirements of high-cost support recipients electing to receive support through the Enhanced A-CAM program, see generally Enhanced A-CAM Order, and other programs. On October 30, 2023, the Wireline Competition Bureau (WCB) authorized 368 rate-or-return carriers to receive Enhanced A-CAM support in various states. Of this number, 100 electing carriers had been receiving cost-based CAF BLS support in 118 unique study areas, and 216 electing carriers had been receiving model-based support (A-CAM). The interim and final deployment milestones required for the Enhanced A-CAM program will supersede the existing interim and final deployment milestones for the carriers participating in eligible programs. However, Enhanced A-CAM carriers were required to still report in the HUBB their deployments for calendar year 2023 prior to the start of the support term for Enhanced A-CAM program (January 1, 2024) to ensure carriers continue in good faith to deploy broadband pursuant to existing commitments.

Carriers receiving high-cost support to serve locations are subject to specific public interest obligations related to speed, usage, latency, and price as well as certain deployment milestones. Specifically, the Commission imposed defined deployment obligations and associated HUBB reporting requirements (annual location reporting and build-out certifications) for all fixed support recipients as well as annual reporting and certification requirements for Uniendo a Puerto Rico Fund and Connect USVI Fund Stage 2 mobile support recipients.

We therefore propose to revise this information collection. Finally, we propose to modify the burdens associated with existing and new reporting requirements to account for additional carriers that will be subject to these requirements.

Federal Communications Commission.
Marlene Dortch,
Secretary, Office of the Secretary.

[FR Doc. 2024-28386 Filed 12-3-24; 8:45 am]

BILLING CODE 6712-01-P